DEPARTMENT OF EDUCATION

Regional Advisory Committees

AGENCY: Regional Advisory Committees, Office of Elementary and Secondary Education, ED.

ACTION: Notice of real-time online conference meetings.

SUMMARY: This notice sets forth the schedule and agendas of forthcoming live, real-time online conferencing meetings of each of the 10 Regional Advisory Committees (RACs). Notice of RAC meetings is required under Section 10(a)(2) of the Federal Advisory Committee Act and is intended to notify the public of their opportunity to observe the meeting proceedings and to submit comment.

Meeting Format: All meetings will be conducted via online conference and will be available to the public online.

Meeting Purposes (Agendas): Each RAC will conduct three, 2-hour meetings to deliberate on findings and prepare their region's education needs assessment report:

Meeting 1—The RACs will: (1) Review input received from stakeholders and other relevant information and, based on the information received, deliberate about the critical education needs of State and school district policymakers and practitioners in the region that, if met, would help them to improve student achievement and meet the purposes of the No Child Left Behind Act, and (2) assess the extent of current resources and technical assistance opportunities available in the region to meet those needs.

Meeting 2—The Racs will deliberate about input received from stakeholders and other relevant information and make recommendations on the types and approaches for technical assistance the Department of Education might undertake to address the identified education needs of the region.

Meeting 3—RAC members will meet to deliberate on and finalize the education needs assessment report for their region.

Meeting Schedules: (Note that all times are given in eastern standard time (e.s.t.), except for the Pacific Region.)

Appalachia (Regional Advisory Committee meetings are:

Friday, January 7, 2005, 9 a.m.-11 a.m. e.s.t.

Wednesday, February 9, 2005, 9 a.m.-11 a.m. e.s.t.

Wednesday, March 9, 2005, 9 a.m.-11 a.m. e.s.t.

Mid-Atlantic Regional Advisory Committee Meetings are:

Tuesday, January 4, 2005, 4 p.m.-6 p.m. e.s.t.

Tuesday, February 8, 2005, 4 p.m.-6 p.m. e.s.t.

Tuesday, March 8, 2005, 4 p.m.-6 p.m. e.s.t.

Mid Continent Regional Advisory Committee meetings are:

Tuesday, January 4, 2005, 3 p.m.-5 p.m. e.s.t.

Thursday, February 10, 2005, 3 p.m.-5 p.m. e.s.t.

Thursday, March 10, 2005, 3 p.m.-5 p.m. e.s.t.

North Central Regional Advisory Committee meetings are:

Wednesday, January 5, 2005, 9 a.m.-4 p.m. e.s.t.

Tuesday, February 8, 2005, 10 a.m.-12 p.m. e.s.t.

Thursday, March 10, 2005, 9 a.m.-11 a.m. e.s.t.

Northeast Regional Advisory Committee Meetings are:

Tuesday, January 4, 2005, 4-6 p.m., e.s.t.

Thursday, February 10, 2005, 4-6 p.m., e.s.t.

Thursday, March 10, 2005, 4-6 p.m., e.s.t.

Northwest Regional Advisory Committee meetings are:

Tuesday, January 4, 2005, 1-3 p.m., e.s.t.

Wednesday, February 9, 2005, 1-3 p.m., e.s.t.

Tuesday, March 8, 2005, 2:30-4:30 p.m., e.s.t.

Southeast Regional Advisory Committee Meetings are:

Friday, January 7, 2005, 10 a.m.-12 p.m., e.s.t.

Tuesday, February 8, 2005, 2-4 p.m., e.s.t.

Friday, March 11, 2005, 2-4 p.m., e.s.t.

Southwest Regional Advisory Committee Meetings are:

Wednesday, January 5, 2005, 3-5 p.m., e.s.t.

Thursday, February 10, 2005, 3-5 p.m., e.s.t.

Thursday, March 10, 2005, 3-5 p.m., e.s.t.

West Regional Advisory Committee Meetings are:

Tuesday, January 4, 2005, 10 a.m.-12 p.m., e.s.t.

Friday, February 11, 2005, 3-5 p.m., e.s.t.

Thursday, March 3, 2005, 10 a.m.-12 p.m., e.s.t.

Pacific Regional Advisory Committee Meetings are:

Wednesday, January 5, 2005, 6-8 p.m., e.s.t. (1 p.m., h.s.t./12 p.m., s.s.t. and Thursday, January 6, 2005, 11 a.m. Marshall Islands Time/9 a.m., Guam/FSM/CNMI Time, 8 a.m. Palau Time)

Wednesday, February 9, 2005, 7-9 p.m., e.s.t. (2 p.m. h.s.t./1 p.m. s.s.t. and Thursday, February 10, 2005, 12 p.m., Marshall Islands Time/10 a.m., Guam/FSM/CNMI Time, 9 a.m., Palau Time)

Wednesday, March 9, 2005, 7-9 p.m., e.s.t. (2 p.m., h.s.t./1 p.m., s.s.t. and Thursday, March 10, 2005, 12 p.m., Marshall Islands Time/10 a.m., Guam/FSM/CNMI Time, 9 a.m., Palau Time).

FOR FURTHER INFORMATION CONTACT: Enid Simmons, (202) 708-9499 or at enid.simmons@ed.gov.

SUPPLEMENTARY INFORMATION: The Regional Advisory Committees are established under section 206 of the Educational Technical Assistance Act of 2002, (20 U.S.C. 9605). The RACs are to advise the Secretary by (1) conducting an educational needs assessment of each region described in section 174(b) of the Education Sciences Reform Act of 2002; and (2) submitting reports for each region based on the regional assessments no later than 4 months after the committees are first convened.

The composition of each geographic region is as follows:

Appalachian Region: Kentucky, Tennessee, Virginia, and West Virginia.

Mid-Atlantic Region: Delaware, Maryland, New Jersey, Pennsylvania, Washington, DC.

Mid-Continent Region: Colorado, Kansas, Missouri, Nebraska, North Dakota, South Dakota, and Wyoming.

North Central Region: Illinois, Indiana, Iowa, Michigan, Minnesota, Ohio, and Wisconsin.

Northeast & Islands Region: Connecticut, Maine, Massachusetts, New Hampshire, New York, Rhode Island, Vermont; Puerto Rico, and the Virgin Islands.

Northwest Region: Alaska, Idaho, Montana, Oregon, and Washington.

Southeast Region: Alabama, Florida, Georgia, Mississippi, North Carolina and South Carolina.

Southwest Region: Arkansas, Louisiana, New Mexico, Oklahoma, and Texas.

West Region: Arizona, California, Nevada, and Utah.

Pacific Region: Hawaii, American Samoa, Commonwealth of Northern Mariana Islands, Federal States of Micronesia, Guam, the Republic of Palau, and the Republic of Marshall Islands.

The Public may listen to the proceedings of all meetings via live, real-time online conferencing. Pre-registration for each online conference is required. The public may register for an online meeting through the Regional Advisory Committee Web site at http://www.rac-ed.org. Registration for each meeting will be open two weeks prior to the scheduled date time of the meeting. The number of public registrations for each meeting will be limited due to cost considerations. Registration will be accepted on a first-come, first-served basis up to the limits of the space available. Individuals who will need special accommodations to view meeting proceedings online (i.e., interpreting services, assistive listening devices, materials in alternative format) should notify Georgette Joyner at The CNA Corporation by no later than 10 days prior to the meeting. We will attempt to meet requests after this date, but cannot guarantee availability of the requested accommodation.

The public may listen to a recording of the proceedings of each RAC meeting over the Web at the RAC Web site: http://www.rac-ed.org within fourteen days of the meeting. Minutes of each meeting also will be available to the public online http://www.rac-ed.org within fourteen days of the meeting and for public inspection at the office of Georgette Joyner, The CNA Corporation, 4825 Mark Center Drive, Alexandria, VA 22311 between the hours of 9 a.m. to 5 p.m.

Dated: December 15, 2004.
Raymond Simon,
Assistant Secretary, OESE.

[FR Doc. 04-27842 Filed 12-17-04; 8:45 am]

BILLING CODE 4000-01-M